DEPARTMENT OF THE INTERIOR

Fish and Wildlife Service

Information Collection Sent to the Office of Management and Budget (OMB) for Approval Under the Paperwork Reduction Act; 1018-0118; Private Stewardship Grants Program

AGENCY: Fish and Wildlife Service, Interior.

ACTION: Notice; request for comments.

SUMMARY: We (Fish and Wildlife Service or Service) have submitted the collection of information described below to OMB for approval under the provisions of the Paperwork Reduction Act. The information collected for the Private Stewardship Grants Program (PSGP) is needed to review requests for funding and to comply with Federal reporting requirements for grants awarded under this program.

DATES: You must submit comments on or before September 1, 2005.

ADDRESSES: Send your comments and suggestions on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection requirements, explanatory information, or related materials, contact Hope Grey at the addresses above or by phone at (703) 358-2482.

SUPPLEMENTARY INFORMATION: The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). The OMB control number for the collection of information for the Private Stewardship Grants Program is 1018-0118, which expires July 31, 2005. We have sent a request to OMB to renew its approval of this collection of information. OMB has up to 60 days to approve or disapprove our request for renewal, but may respond in as early as 30 days. To ensure consideration, send your comments to OMB by the date listed in the DATES section. Federal agencies may not conduct or sponsor and a person is not required to respond to a collection of information unless it displays a currently valid OMB control number.

On January 21, 2005, we published in the Federal Register (70 FR 3221) a 60-day notice of our intent to request renewal of this information collection authority from OMB. In that notice, we solicited public comments for 60 days, ending on March 23, 2005. We received one comment regarding this notice. The commenter expressed opposition to the awarding of grants to gun clubs and requested a list of 2003 PSGP grant recipients. We note the concerns raised by this individual; however, under the PSPG, all private landowners are eligible to receive funding for on-the-ground conservation actions that benefit at-risk species. We have not made any changes to our information collection as a result of the comment. A list of 2003 awards is online at http://endangered.fes.gov/grants/private_stewardship/FY2003/index.html.

The PSGP provides grants and other assistance on a competitive basis to individuals and groups engaged in private conservation efforts that benefit species listed or proposed as endangered or threatened under the Endangered Species Act, candidate species, or other at-risk species. In implementing the PSGP, we request project proposals from the public. For projects selected for funding, we also request information to satisfy Federal reporting requirements. These requests constitute an information collection requiring OMB approval.

Congress established the Private Stewardship Grants Program (PSGP) in 2002. Pending appropriations, a notice of funding availability is posted annually on the www.grants.gov Web site. The information collection associated with the PSGP is voluntary, but is required to receive benefits in the form of a grant. The funding provided to private landowners through this program will address threats to many critically imperiled species. Taking action to establish partnerships with private landowners through the PSGP is central to our mission.

The information collected in the request for proposals is used in a competitive funding process to determine the eligibility and relative value of conservation projects as described in the project proposals. A diverse panel of representatives from State and Federal government, conservation organizations, agriculture and development interests, and the science community assesses project proposals and makes funding recommendations to the Service. We use the information collected under this program to respond to such needs as: Government Performance and Results Act (GPRA) reporting, grant agreements, budget reports and justification, public and private requests for information, data provided to other programs for databases on similar programs, Congressional inquiries, and other informational reports. We also collect information from award recipients on an annual basis to fulfill Federal grant reporting requirements.

This information collection is associated with an annual request for proposals (RFP). The annual RP is issued at the beginning of the fiscal year concurrent with an annual appropriation. If we did not collect the information, we would have to eliminate the PSGP because it would not be possible to determine eligibility and the scale of resource values or relative worth of the proposed projects. Reducing the frequency of the information collection would only reduce the frequency of windows for grant opportunities as the information is unique to each project.

Title: Private Stewardship Grants Program.

OMB Control Number: 1018-0118.

Form Number: None.

Frequency: A request for proposals is issued annually. In addition, grant recipients must submit reports on an annual basis.

Description of Respondents: Private landowners, including individuals and nonprofit organizations.

Total Annual Burden Hours: 12,400 hours.

Total Annual Responses: Approximately 300 respondents.

We consulted four previous respondents about the availability of the information requested, the clarity of the instructions, and the annual hour burden for the application materials and the annual reports. All respondents said that the application instructions are clear and the information is easily available. The respondents estimated the hour burden for the application from 1 day to 3 weeks. We believe that this variance results from some respondents estimating the entire time it took them to develop the project as well as to present that information in the form of an application, whereas other respondents only included the actual time to write the application materials. The average hour burden estimated by respondents is approximately 40 hours. The average number of applicants is about 300. The hour burden estimated by the respondents for the reporting requirements varied between 2 hours and 8 hours, with an average of about 4 hours. The average number of award recipients is about 100. The total annual burden hour is 12,000 hours for the project proposals and 400 hours for reporting activities.

We invite your comments on: (1) Whether or not the collection of information is necessary for the proper performance of the Private Stewardship Grants Program, including whether or not the information will have practical utility; (2) the accuracy of our estimate of the burden of the collection of information; (3) ways to enhance the quality, utility, and clarity of the information to be collected; and (4) ways to minimize the burden of the collection of information on respondents. The information collections in this program are part of a system of records covered by the Privacy Act (5 U.S.C. 552(a)).

Dated: July 1, 2005.
Hope Grey,
Information Collection Clearance Officer, Fish and Wildlife Service.

[FR Doc. 05-15187 Filed 8-1-05; 8:45 am]

BILLING CODE 4310-55-U